DEPARTMENT OF ENERGY

Federal Energy Regulatory Commission

[Docket No. RP01-166-000]

ANR Pipeline Company; Notice of Proposed Changes in FERC Gas Tariff

December 6, 2000.

Take notice that on December 1, 2000, ANR Pipeline Company (ANR) tendered for filing as part of its FERC Gas Tariff, Original Volume No. 2, the following revised tariff sheets, to be effective January 1, 2001:

Fifteenth Revised Sheet No. 570

Second Revised Sheet No. 573

ANR states that the above-referenced tariff sheets are being filed pursuant to the Commission's May 15, 1996 Order granting ANR's request for suspension of the tariff pricing provision of Rate Schedule X-64 in the captioned proceeding. The revised tariff sheets reflect a continuance of the suspension of ANR's tariff provisions regarding the requirement to annually redetermine the monthly charge for services provided to High Island Offshore System under ANR's Rate Schedule X-64.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31562 Filed 12-11-00; 8:45 am]

BILLING CODE 6717-01-M